DEPARTMENT OF TRANSPORTATION

Federal Highway Administration

Environmental Impact Statement: Douglas County, Kansas

AGENCY: Federal Highway Administration (FHWA), DOT.

ACTION: Notice of Intent.

SUMMARY: The FHWA is issuing this Notice of Intent (NOI) to advise the public that a supplement to the final environmental impact statement will be prepared to address impacts of proposed improvements to a section of K-10 Highway South Lawrence Trafficway, located within the south and west limits of the City of Lawrence, in Douglas County, Kansas.

FOR FURTHER INFORMATION CONTACT:

Federal Highway Administration—Kansas Division: Richard E. Backlund, Division Administrator, 6111 SW 29th Street, Suite 100, Topeka, KS 66614-4271, telephone (785) 273-2600, or via email at: richard.backlund@dot.gov.

Kansas Department of Transportation: Catherine M. Patrick, State Transportation Engineer, Dwight D. Eisenhower State Office Building, 700 SW Harrison Street, Topeka, KS 66603-3745, telephone (785) 296-2799, or via email at: catherine.patrick@ks.gov.

SUPPLEMENTARY INFORMATION: The FHWA, in cooperation with the Kansas Department of Transportation (KDOT), will prepare a Supplemental Environmental Impact Statement (SEIS) on a proposal to improve K-10/South Lawrence Trafficway (SLT) located in Douglas County, Kansas. The overall project study limits begin just north of Interstate 70 at North 1800 Road/Farmer's Turnpike to just east of the existing K-10/23rd Street system interchange. The overall length is 19.0 miles and i5 broken down as follows: The West Section begins just north of Interstate 70 at North 1800 Road/Farmer's/Turnpike to US-59/Iowa Street (approximately 8.7 miles). The East Section begins at US-59/Iowa Street and continues to the existing K-10/23rd Street system interchange. The project study area also includes East 600 Road/Lecompton Road at Interstate 70 (approximately 0.6 mile), and U.S. 40 from K-10 to E 600 Road (approximately 4.1 miles).

A previous Environmental Impact Statement (EIS) was prepared in 1990 for the overall SLT study area. The Purpose and Need stated in that EIS was to relieve congestion on existing 23rd Street and Iowa Street by diverting through and local traffic from these two existing streets and Clinton Parkway, thereby achieving an improved level of traffic service on the local street network. The goals of the current proposed project on the West Section are to increase capacity, enhance safety, and address access while balancing sensitive project environmental features within the project footprint. Also, the project will provide an efficient and cost-effective transportation facility for users of K-10 Highway and the surrounding state highway system.

As an outcome of the approved 1990 EIS, two expressway lanes of the West Section were constructed and opened to traffic in each direction in 1996. The East Section was not constructed and a subsequent SEIS with a “No Build” decision was approved in 2000. A subsequent EIS, in conjunction with a USACE 404 Permit, was completed in 2002 and adopted and approved by FHWA in November 2007. The FHWA then issued a Record of Decision (ROD) in May 2008. Since the completion of the ROD, the East Section four-lane freeway was constructed and opened to traffic in 2016.

The current SEIS, as a supplement to the original 1990 EIS, will evaluate a `No Action' alternative as well as a combination of toll-free and tolled build alternatives for the entire SLT study area. Roadway configuration options will be evaluated for the West Section, including upgrading the West Section as a four-lane freeway with controlled access and interchanges at West 6th Street/U.S. 40, Bob Billings Parkway, Clinton Parkway, an interchange between Wakarusa Drive and Kasold Drive, and at U.S. 59/Iowa Street. Also, there will be discussions about interchange alternatives at I-70/East 600 Road/Lecompton Road and K-10/I-70/North 1800 Road.

A formal scoping process will be initiated that involves appropriate Federal, State, and local agencies, as well as stakeholders and the public. This will continue throughout the study to engage the local and regional community, to obtain public input and to keep the public informed. Coordination meetings will be held as needed with affected/concerned local, State, Tribal, and Federal governmental entities. Public hearings will be held to present the findings of the SEIS. The SEIS will be made available for public and agency review and comment prior to the public hearings.

The FHWA and KDOT plan to prepare a combined Final SEIS/Record of Decision for the project. The SEIS will analyze the potential social, economic, and environmental impacts resulting from the proposed project. The following issues will be specifically analyzed as part of the SEIS: Impacts to the aquatic ecosystem; impacts to cultural resources; impacts to threatened and endangered species; impacts to floodplains; impacts to transportation; impacts to parks/recreation; environmental justice; secondary and cumulative impacts; and socioeconomics. This analysis will include a detailed examination of direct, indirect and cumulative impacts that could result from the construction of a selected alternative emanating from this SEIS. Other Federal approvals or permits that may be required include a Section 404 Permit from the U.S. Army Corps of Engineers (USACE), a floodplain development permit from the state office of the Federal Emergency Management Agency (FEMA), as well as water resource and floodplain permits from the Kansas Division of Water Resources.

To ensure that the full range of issues related to the proposed action are addressed and all significant issues defined, comments and suggestions are invited from all interested parties. Comments or questions concerning the proposed action and the SETS should be directed to FHWA or KDOT at the addresses provided above.

Issued on: August 22, 2018.
Richard E. Backlund,
Division Administrator FHWA—Kansas Division.

[FR Doc. 2018-19224 Filed 9-5-18; 8:45 am]

BILLING CODE 4910-22-M